DEPARTMENT OF COMMERCE

National Oceanic and Atmospheric Administration

50 CFR Part 679

[I.D. 021402B]

Fisheries of the Exclusive Economic Zone Off Alaska; Sablefish Managed Under the IFQ Program

AGENCY: National Marine Fisheries Service (NMFS), National Oceanic and Atmospheric Administration (NOAA), Commerce.

ACTION: Announcement of fishing season dates.

SUMMARY: NMFS announces the opening directed fishing for sablefish with fixed gear managed under the Individual Fishing Quota (IFQ) program. The season will open 1200 hrs, Alaska local time (A.l.t.), March 18, 2002, and will close 1200 hrs, A.l.t., November 18, 2002. This period is the same as the 2002 IFQ and Community Development Quota season for Pacific halibut adopted by the International Pacific Halibut Commission (IPHC). The IFQ halibut season is specified by a separate publication in the Federal Register of annual management measures pursuant to 50 CFR 300.62.

DATES: Effective 1200 hrs, A.l.t., March 18, 2002, until 1200 hrs, A.l.t., November 18, 2002.

FOR FURTHER INFORMATION CONTACT: Jay Ginter, 907-586-7228.

SUPPLEMENTARY INFORMATION: Beginning in 1995, fishing for Pacific halibut (Hippoglossus stenolepis) and sablefish (Anoplopoma fimbria) with fixed gear in the IFQ regulatory areas defined in § 679.2 has been managed under the IFQ program. The IFQ Program is a regulatory regime designed to promote the conservation and management of these fisheries and to further the objectives of the Magnuson-Stevens Fishery Conservation and Management Act and the Northern Pacific Halibut Act. Persons holding quota share receive an annual allocation of IFQ. Persons receiving an annual allocation of IFQ are authorized to harvest IFQ species within specified limitations. Further information on the implementation of the IFQ program, and the rationale supporting it, are contained in the preamble to the final rule implementing the IFQ program published in the Federal Register, November 9, 1993 (58 FR 59375) and subsequent amendments.

This announcement is consistent with § 679.23(g)(1), which requires that the directed fishing season for sablefish managed under the IFQ program be specified by the Administrator, Alaska Region, and announced by publication in the Federal Register. This method of season announcement was selected to facilitate coordination between the sablefish season, chosen by the Administrator, Alaska Region, and the halibut season, chosen by the IPHC. The directed fishing season for sablefish with fixed gear managed under the IFQ program will open 1200 hrs, A.l.t., March 18, 2002, and will close 1200 hrs, A.l.t., November 18, 2002. This period runs concurrently with the IFQ season for Pacific halibut announced by the IPHC. The IFQ halibut season is specified by a separate publication in the Federal Register of annual management measures pursuant to 50 CFR 300.62.

Classification

The Assistant Administrator for Fisheries, NOAA, finds that coordinating the opening of the IFQ sablefish fishery with the IFQ halibut fishery will allow full use of the sablefish allocated to the fixed gear managed under the IFQ program. Halibut and sablefish are fished primarily by the same people using the same gear. This action responds to the best available information recently obtained from the IPHC. Pursuant to the Northern Pacific Halibut Treaty, the opening and closing dates of the halibut season were determined by the IPHC during the week of January 24, 2002. Failure to coordinate the two seasons by having a halibut fishery without a concurrent sablefish season could result in unacceptable levels of sablefish bycatch. Accordingly, the need to implement this action prior to the IFQ halibut season opening constitutes good cause to waive the requirement to provide prior notice and opportunity for public comment pursuant to the authority set forth at 5 U.S.C. 553(b)(3)(B) and 50 CFR 679.20(b)(3)(iii)(A), as such procedures would be unnecessary and contrary to the public interest. Similarly, the need to implement this action prior to the IFQ halibut season opening constitutes good cause to find that the effective date of this action cannot be delayed for 30 days. Accordingly, under 5 U.S.C. 553(d), a delay in the effective date is hereby waived.

This action is required by 50 CFR 679.21 and is exempt from review under Executive Order 12866.

Authority: 16 U.S.C. 773 et seq. and 1801 et seq.

Dated: February 27, 2002.
Bruce C. Morehead,
Acting Director, Office of Sustainable Fisheries, National Marine Fisheries Service.

[FR Doc. 02-5233 Filed 3-4-02; 8:45 am]

BILLING CODE 3510-22-S